DEPARTMENT OF ENERGY

Federal Energy Regulatory Commission

Combined Notice of Filings #2

Take notice that the Commission received the following electric rate filings:

Docket Numbers: ER11-4050-001; ER11-4027-002; ER11-4028-002.

Applicants: Cogentrix of Alamosa, LLC, Portsmouth Genco, LLC, James River Genco, LLC.

Description: Second Supplement to January 14, 2013 Notice of Non-Material Change in Status of Cogentrix of Alamosa, LLC, et al.

Filed Date: 2/27/13.

Accession Number: 20130227-5029.

Comments Due: 5 p.m. ET 3/14/13.

Docket Numbers: ER12-2068-002.

Applicants: Blue Sky East, LLC.

Description: Notice of Change in Status of Blue Sky East, LLC.

Filed Date: 2/28/13.

Accession Number: 20130228-5296.

Comments Due: 5 p.m. ET 3/21/13.

Docket Numbers: ER13-486-001.

Applicants: PJM Interconnection, L.L.C.

Description: PJM Interconnection, L.L.C. submits Response to the Commission's 1/29/2013 Letter Requesting Additional Information to be effective 1/31/2013.

Filed Date: 2/28/13.

Accession Number: 20130228-5324.

Comments Due: 5 p.m. ET 3/21/13.

Docket Numbers: ER13-681-001.

Applicants: The Empire District Electric Company.

Description: The Empire District Electric Company submits Supplement to Filing to be effective 1/1/2013.

Filed Date: 2/28/13.

Accession Number: 20130228-5340.

Comments Due: 5 p.m. ET 3/21/13.

Docket Numbers: ER13-698-001.

Applicants: Southard Energy Partners LLC.

Description: Southard Energy Partners, LLC FERC Electric Tariff to be effective 2/11/2013.

Filed Date: 2/28/13.

Accession Number: 20130228-5232.

Comments Due: 5 p.m. ET 3/21/13.

Docket Numbers: ER13-708-001.

Applicants: Midwest Independent Transmission System Operator, Inc.

Description: 02-28-13 Appendix K 205 Rights Amendment to be effective 12/18/2013.

Filed Date: 2/28/13.

Accession Number: 20130228-5255.

Comments Due: 5 p.m. ET 3/21/13.

Docket Numbers: ER13-773-001.

Applicants: CCI Roseton LLC.

Description: CCI Roseton LLC submits Supplement MBR Filing to be effective 1/18/2013.

Filed Date: 2/28/13.

Accession Number: 20130228-5318.

Comments Due: 5 p.m. ET 3/14/13.

Docket Numbers: ER13-1002-000.

Applicants: Public Service Company of New Mexico.

Description: Transmission Construction and Interconnection Agreement with Jicarilla Nation to be effective 4/26/2013.

Filed Date: 2/28/13.

Accession Number: 20130228-5057.

Comments Due: 5 p.m. ET 3/21/13.

Docket Numbers: ER13-1003-000.

Applicants: Pacific Gas and Electric Company.

Description: Pacific Gas and Electric Company submits Notices of Termination of Service Agreement Nos. 28 and 29.

Filed Date: 2/28/13.

Accession Number: 20130228-5085.

Comments Due: 5 p.m. ET 3/21/13.

Docket Numbers: ER13-1004-000.

Applicants: Midwest Independent Transmission System Operator, Inc.

Description: 2013-02-28 Schedule 27 DAMAP to be effective 3/1/2013.

Filed Date: 2/28/13.

Accession Number: 20130228-5090.

Comments Due: 5 p.m. ET 3/8/13.

Docket Numbers: ER13-1005-000.

Applicants: PacifiCorp.

Description: DGT, UAMPS, UMPA Revised TSOAs to be effective 5/1/2013.

Filed Date: 2/28/13.

Accession Number: 20130228-5231.

Comments Due: 5 p.m. ET 3/21/13.

Docket Numbers: ER13-1006-000.

Applicants: Public Service Company of Colorado.

Description: Public Service Company of Colorado submits Notice of Power Purchase Agreement with Colorado Springs Utilities.

Filed Date: 2/28/13.

Accession Number: 20130228-5291.

Comments Due: 5 p.m. ET 3/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2013.
Nathaniel J. Davis, Sr.,
Deputy Secretary.

[FR Doc. 2013-05270 Filed 3-6-13; 8:45 am]

BILLING CODE 6717-01-P